DEPARTMENT OF HOMELAND SECURITY

Privacy Office; Published Privacy Impact Assessments on the Web

AGENCY: Privacy Office, Office of the Secretary, DHS.

ACTION: Notice of Publication of Privacy Impact Assessments.

SUMMARY: The Privacy Office of the Department of Homeland Security is making available four (4) Privacy Impact Assessments on various programs and systems in the Department. These assessments were approved and published on the Privacy Office's Web site between January 19, 2007 and February 28, 2007.

DATES: The Privacy Impact Assessments will be available on the DHS Web site until June 11, 2007, after which they may be obtained by contacting the DHS Privacy Office (contact information below).

FOR FURTHER INFORMATION CONTACT: Hugo Teufel III, Chief Privacy Officer, Department of Homeland Security, Mail Stop 0550, 601 S. 12th Street, Arlington, VA 22202-4220; by telephone (571) 227-3813, facsimile (866) 466-5370, or e-mail: pia@dhs.gov.

SUPPLEMENTARY INFORMATION: February 1, 2007 and February 28, 2007, the Chief Privacy Officer of the Department of Homeland Security (DHS) approved and published four (4) Privacy Impact Assessments (PIAs) on the DHS Privacy Office Web site, http://www.dhs.gov/privacy, under the link for “Privacy Impact Assessments.” Below is a short summary of the systems, indicating the DHS component responsible for the system, and the date on which the PIA was approved. Additional information can be found on the Web site or by contacting the Privacy Office.

System: Transportation Security Administration's Claims Management System.

Component: Transportation Security Administration (TSA).

Date of approval: February 5, 2007.

TSA has created the Claims Management System (CMS). The TSA Claims Management Office (CMO) investigates and adjudicates Federal tort claims filed against TSA. The CMO developed the CMS as the primary tool for the CMO to receive, investigate, and adjudicate Federal tort claims against TSA. This PIA covers the claims submission process.

System: Sensitive Security Information (SSI).

Component: Transportation Security Administration (TSA).

Date of approval: December 28, 2006.

TSA is implementing a process whereby a party seeking access to SSI in a civil proceeding in a Federal court that demonstrates substantial need for relevant SSI in preparation of the party's case may request access to SSI. In order to determine if an individual representing the party may receive access to SSI for this purpose, TSA will conduct a threat assessment that includes a fingerprint-based criminal history records check (CHRC) and a name-based check.

System: Map Service Center (MSC).

Component: Federal Emergency Management Agency (FEMA).

Date of approval: February 12, 2007.

The National Flood Insurance Program (NFIP) MSC (formerly known as the NFIP Information Exchange) exists to provide immediate access to flood map information for any area in the United States to anyone needing map information. The NFIP MSC is FEMA's distribution center for the NFIP's 100,000 Flood Insurance Rate Maps, 12,000 flood studies, and other related material. A user may freely view the entire map online or purchase a paper map, purchase a digital version of the map on compact disc, or download the map from the Web site. It is the collection of personally identifiable information associated with the collection of customer information that is the reason for and subject of this PIA.

System: DHScovery.

Component: Management, Office of Chief Human Capital Officer.

Date of approval: January 19, 2007.

DHScovery is owned by the Office of the Chief Information Officer (OCIO) in partnership with the Office of the Chief Human Capital Officer (OCHCO). DHScovery will create an e-training environment that supports development of the Department of Homeland Security (DHS) workforce through simplified one-stop access to high quality e-training products and services. This PIA allows DHScovery to collect personally identifiable information about DHS employees and contractors.

Dated: April 4, 2007.
Hugo Teufel III,
Chief Privacy Officer.

[FR Doc. E7-6860 Filed 4-10-07; 8:45 am]

BILLING CODE 4410-10-P